FEDERAL ACCOUNTING STANDARDS ADVISORY BOARD

Notice of Public Meeting To Discuss the Proposed Draft Staff Implementation Guidance 6.1: Guidance for Implementation of SFFAS 6, Accounting for Property, Plant, and Equipment, as amended

AGENCY: Federal Accounting Standards Advisory Board.

ACTION: Notice.

Pursuant to 31 U.S.C. 3511(d), the Federal Advisory Committee Act (Pub. L. 92-463), as amended, and the FASAB Rules Of Procedure, as amended in October 2010, notice is hereby given that the staff of the Federal Accounting Standards Advisory Board (FASAB) will convene a public meeting on May 9, 2018, from 9:00 a.m. until 11:00 a.m. to discuss proposed draft Staff Implementation Guidance 6.1: Guidance for Implementation of SFFAS 6, Accounting for Property, Plant, and Equipment, as amended. The meeting will be held in room 5N30 at the Government Accountability Office, located at 441 G Street, NW, Washington, DC 20548.

Those interested in attending should contact Ms. Melissa Batchelor, Assistant Director, by contacting (202) 512-5976 or batchelorm@fasab.gov no later than May 2, 2018. Any interested person may attend the public meeting as an observer.

FOR FURTHER INFORMATION CONTACT: Ms. Wendy M. Payne, Executive Director, 441 G Street NW, Suite 1155, Washington, DC 20548, or call (202) 512-7350.

Authority: Federal Advisory Committee Act, Pub. L. 92-463.

Dated: April 19, 2018.
Wendy M. Payne,
Executive Director.

[FR Doc. 2018-08668 Filed 4-24-18; 8:45 am]

BILLING CODE 1610-02-P